DEPARTMENT OF ENERGY

Environmental Management Site-Specific Advisory Board, Paducah

AGENCY: Department of Energy.

ACTION: Notice of Open Meeting: Correction.

SUMMARY: On August 14, 2014, the Department of Energy (DOE) published a notice of open meeting announcing a meeting on September 11, 2014 of the Environmental Management Site-Specific Advisory Board, Paducah (79 FR 47632). This document makes a correction to that notice.

FOR FURTHER INFORMATION CONTACT: Jennifer Woodard, Deputy Designated Federal Officer, Department of Energy Paducah Site Office, 1017 Majestic Drive, Suite 200, Lexington, Kentucky 40513, (270) 441-6820.

Correction

In the Federal Register of August 14, 2014, in FR Doc. 2014-19307, on page 47632, please make the following correction:

In that notice under DATES, third column, second paragraph, the meeting date has been changed. The new date is September 25, 2014 instead of September 11, 2014.

Issued at Washington, DC, on September 8, 2014.
LaTanya R. Butler,
Deputy Committee Management Officer.

[FR Doc. 2014-21841 Filed 9-11-14; 8:45 am]

BILLING CODE 6450-01-P